DEPARTMENT OF COMMERCE

International Trade Administration

[A-427-001]

Revocation of Antidumping Duty Order on Sorbitol From France

AGENCY: Import Administration, International Trade Administration, Department of Commerce.

SUMMARY: On July 1, 2009, the Department of Commerce (the Department) initiated the sunset review of the antidumping duty order on sorbitol from France. See Initiation of Five-year (“Sunset”) Review, 74 FR 31412 (July 1, 2009). Pursuant to section 751(c) of the Tariff Act of 1930, as amended (the Act), the U.S. International Trade Commission (the Commission) determined that revocation of the existing antidumping duty order on sorbitol from France would not be likely to lead to continuation or recurrence of material injury to an industry in the United States within a reasonably foreseeable time. Sorbitol From France; Determination, 75 FR 39277 (July 8, 2010) (ITC Final). Therefore, pursuant to section 751(d)(2) of the Act and 19 CFR 351.222(i)(1)(iii), the Department is revoking the antidumping duty order on sorbitol from France.

DATES: Effective Date: August 5, 2009.

FOR FURTHER INFORMATION CONTACT: Steve Bezirganian or Robert James, AD/CVD Operations Office 7, Import Administration, International Trade Administration, U.S. Department of Commerce, 14th Street and Constitution Avenue, NW., Washington, DC 20230; telephone: (202) 482-1131 and (202) 482-0649, respectively.

SUPPLEMENTARY INFORMATION:

Background

On April 9, 1982, the Department published the antidumping duty order on sorbitol from France. See Sorbitol From France; Antidumping Duty Order, 47 FR 15391 (April 9, 1982). On June 29, 1984, the order was revoked, in part. See Sorbitol From France; Revocation in Part of Antidumping Duty Order, 49 FR 26773 (June 29, 1984). On July 1, 2009, the Department initiated its most recent sunset review of the antidumping duty order on sorbitol from France. See Initiation of Five-year (“Sunset”) Review. On July 2, 2009, the Commission instituted its most-recent five-year review of the order. See Sorbitol From France, 74 FR 31762 (July 2, 2009).

As a result of the Department's sunset review, the Department determined that revocation of the antidumping duty order would be likely to lead to the continuation or recurrence of dumping. See Sorbitol from France: Final Results of Expedited Five-year (Sunset) Review of Antidumping Duty Order, 74 FR 56793 (November 3, 2009). The Department notified the Commission of the magnitude of the margin likely to prevail were the antidumping duty order to be revoked.

On July 8, 2010, the Commission published its determination that, pursuant to section 751(c) of the Act, revocation of the antidumping duty order on sorbitol from France would not be likely to lead to continuation or recurrence of material injury to an industry in the United States within a reasonably foreseeable time. See ITC Final and USITC Publication 4164 (June 2010), titled Sorbitol from France (Investigation No. 731-TA-44 (Third Review)).

Scope of the Order

The products covered by the order are shipments of crystalline sorbitol. Crystalline sorbitol is a polyol produced by the catalytic hydrogenation of sugars (glucose). It is used in the production of sugarless gum, candy, groceries, and pharmaceuticals. The above-described sorbitol is currently classifiable under item 2905.44.00 of the Harmonized Tariff Schedule of the United States (HTSUS). Although the HTSUS subheading is provided for convenience and customs purposes, the written description remains dispositive.

Determination

As a result of the determination by the Commission that revocation of the antidumping duty order is not likely to lead to the continuation or recurrence of material injury to an industry in the United States, the Department, pursuant to section 751(d) of the Act, is revoking the antidumping duty order on sorbitol from France. Pursuant to section 751(d)(2) of the Act and 19 CFR 351.222(i)(2)(i), the effective date of revocation is August 5, 2009 (i.e., the fifth anniversary of the publication in the Federal Register of the notice of continuation of this order). The Department will notify U.S. Customs and Border Protection to terminate suspension of liquidation and collection of cash deposits on entries of the subject merchandise entered or withdrawn from warehouse on or after August 5, 2009. Entries of subject merchandise prior to the effective date of revocation will continue to be subject to suspension of liquidation and antidumping duty deposit requirements. The Department will complete any pending administrative reviews of this order.

This five-year sunset review and notice are in accordance with section 751(d)(2) of the Act and published pursuant to section 777(i)(1) of the Act.

Dated: July 15, 2010.
Ronald K. Lorentzen,
Deputy Assistant Secretary for Import Administration.

[FR Doc. 2010-17800 Filed 7-20-10; 8:45 am]

BILLING CODE 3510-DS-P